DEPARTMENT OF JUSTICE

Notice of Lodging of Proposed Consent Decree Under the Clean Water Act

On May 9, 2016, the Department of Justice lodged a proposed consent decree with the United States District Court for the District of Minnesota in the lawsuit entitled United States and the State of Minnesota v. Southern Minnesota Beet Sugar Cooperative, Civil Action No. 16-1205.

The United States and the State of Minnesota filed this lawsuit under the Clean Water Act. The complaint seeks injunctive relief and civil penalties for violations of Defendant's National Pollutant Discharge Elimination System (“NPDES”) permit issued by the State to Southern Minnesota Beet Sugar Cooperative's sugar beet processing facility in Renville County, Minnesota. The consent decree requires the defendant to perform injunctive relief, pay a $1,000,000.00 civil penalty (split evenly between the United States and the State), and pay restitution to the State of $49,155.83.

The publication of this notice opens a period for public comment on the consent decree. Comments should be addressed to the Assistant Attorney General, Environment and Natural Resources Division, and should refer to United States and the State of Minnesota v. Southern Minnesota Beet Sugar Cooperative, D.J. Ref. No. 90-5-1-1-10696. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $17.00 (25 cents per page reproduction cost) payable to the United States Treasury. For a paper copy without the exhibits and signature pages, the cost is $7.50.

Randall M. Stone,
Acting Assistant Section Chief, Environmental Enforcement Section, Environment and Natural Resources Division.

[FR Doc. 2016-11653 Filed 5-17-16; 8:45 am]

BILLING CODE 4410-15-P